DEPARTMENT OF ENERGY

Federal Energy Regulatory Commission

[Docket No. CP13-113-000]

Dominion Cove Point LNG, LP; Notice of Availability of the Environmental Assessment and Draft General Conformity Determination for the Proposed Cove Point Liquefaction Project

The staff of the Federal Energy Regulatory Commission (FERC or Commission) has prepared an environmental assessment (EA) for the Cove Point Liquefaction Project (Project) proposed by Dominion Cove Point LNG, LP (DCP) in the above-referenced docket. DCP requests authorization to construct and operate facilities to process and export domestically sourced liquefied natural gas (LNG) at the existing Cove Point LNG Terminal (LNG Terminal) in Calvert County, Maryland. The Project would enable DCP to export approximately 5.75 million metric tons per annum of LNG via LNG marine carriers that would dock at the existing offshore pier. A draft General Conformity Determination has also been prepared by the FERC to assess the potential air quality impacts associated with construction and operation of the proposed Project and is included as appendix B of the EA.

The EA assesses the potential environmental effects of the construction and operation of the Project in accordance with the requirements of the National Environmental Policy Act (NEPA). The draft General Conformity Determination was prepared to implement the conformity provision of the Clean Air Act. The FERC staff concludes that approval of the proposed Project, with appropriate mitigating measures, would not constitute a major federal action significantly affecting the quality of the human environment.

The U.S. Department of Energy, U.S. Department of Transportation, U.S. Army Corps of Engineers, U.S. Coast Guard, and Maryland Department of Natural Resources participated as cooperating agencies in the preparation of the EA and draft General Conformity Determination. Cooperating agencies have jurisdiction by law or special expertise with respect to resources potentially affected by the proposal and participate in the NEPA analysis. Although the cooperating agencies provided input to the conclusions and recommendations presented in the EA, the agencies will present their own conclusions and recommendations in their respective Records of Decision or determinations for the Project.

The proposed facilities associated with the LNG Terminal include the following:

• One LNG liquefaction train consisting of gas treatment equipment, natural gas-fired turbine-driven refrigerant compressors, waste heat recovery systems, fire and gas detection and safety systems, and control systems;

• additional power generation including waste heat-driven steam turbine generators and other electrical accessories to supplement the existing on-site power generation;

• minor modifications to the existing pier; and

• the use of two off-site areas to support construction.

The Project would also include the addition of up to 62,500 horsepower of electric-driven compression at DCP's existing Pleasant Valley Compressor Station in Fairfax County, Virginia, and modifications to an existing metering and regulating facility at DCP's Loudoun Compressor Station in Loudoun County, Virginia.

The FERC staff mailed copies of the EA and draft General Conformity Determination to federal, state, and local government representatives and agencies; elected officials; environmental and public interest groups; Native American tribes; potentially affected landowners and other interested individuals and groups; libraries in the Project area; and parties to this proceeding. In addition, the EA, including the draft General Conformity Determination, has been placed in the public files of the FERC and is available for public viewing on the FERC's Web site at www.ferc.gov using the eLibrary link. A limited number of copies of the EA and draft General Conformity Determination are also available for distribution and public inspection at: Federal Energy Regulatory Commission, Public Reference Room, 888 First Street NE., Room 2A, Washington, DC 20426, (202) 502-8371.

Any person wishing to comment on the EA may do so. Your comments should focus on the potential environmental effects, reasonable alternatives, and measures to avoid or lessen environmental impacts. The more specific your comments, the more useful they will be. To ensure that the Commission has the opportunity to consider your comments prior to making its decision on this project, it is important that we receive your comments in Washington, DC on or before June 16, 2014.

For your convenience, there are four methods you can use to submit your comments to the Commission. In all instances please reference the Project docket number (CP13-113-000) with your submission. The Commission encourages electronic filing of comments and has expert staff available to assist you at (202) 502-8258 or efiling@ferc.gov.

(1) You can file your comments electronically by using the eComment feature, which is located on the Commission's Web site at www.ferc.gov under the link to Documents and Filings. This is an easy method for interested persons to submit brief, text-only comments on a project;

(2) You can file your comments electronically by using the eFiling feature on the Commission's Web site at www.ferc.gov under the link to Documents and Filings. With eFiling, you can provide comments in a variety of formats by attaching them as a file with your submission. New eFiling users must first create an account by clicking on “eRegister.” You must select the type of filing you are making. A comment on a particular project is considered a “Comment on a Filing;” or

(3) You may file a paper copy of your comments at the following address: Kimberly D. Bose, Secretary, Federal Energy Regulatory Commission, 888 First Street NE., Room 1A, Washington, DC 20426.

(4) In lieu of sending written or electronic comments, the Commission invites you to attend a public comment meeting that its staff will conduct in the Project area to receive comments on the EA and draft General Conformity Determination. We encourage interested groups and individuals to attend and present oral comments on the EA and draft General Conformity Determination. A transcript of the meeting will be available for review in eLibrary under the Project docket number. The meeting is scheduled as follows:

Date and time | Location
Saturday, May 31, 2014, 1:00-6:00 p.m. | Patuxent High School, 12485 Southern Connector Boulevard, Lusby, MD 20657.

Any person seeking to become a party to the proceeding must file a motion to intervene pursuant to Rule 214 of the Commission's Rules of Practice and Procedures (18 CFR 385.214).¹ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

¹ See the previous discussion on the methods for filing comments.

Additional information about the project is available from the Commission's Office of External Affairs, at (866) 208-FERC, or on the FERC Web site (www.ferc.gov) using the eLibrary link. Click on the eLibrary link, click on “General Search,” and enter the docket number excluding the last three digits in the Docket Number field (i.e., CP13-113). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: May 15, 2014.
Kimberly D. Bose,
Secretary.

[FR Doc. 2014-11862 Filed 5-21-14; 8:45 am]

BILLING CODE 6717-01-P